DEPARTMENT OF LABOR

Employment and Training Administration

[TA-W-65,170]

Johnstown Specialty Castings, Inc., Johnstown, PA; Notice of Termination of Investigation

Pursuant to Section 221 of the Trade Act of 1974, as amended, an investigation was initiated on February 9, 2009 in response to a petition filed by the United Steelworkers of America, Local 2362-16, on behalf of workers of Johnstown Specialty Castings, Inc., Johnstown, Pennsylvania.

The petitioner has requested that the petition be withdrawn. Therefore, the investigation under this petition has been terminated.

Signed at Washington, DC, this 6th day of April 2009.
Linda G. Poole,
Certifying Officer, Division of Trade Adjustment Assistance.

[FR Doc. E9-10570 Filed 5-6-09; 8:45 am]

BILLING CODE 4510-FN-P